DEPARTMENT OF TRANSPORTATION

Federal Aviation Administration

Public Notice For Waiver of Aeronautical Land-Use Assurance; Indianapolis International Airport, Indianapolis, IN

AGENCY: Federal Aviation Administration, DOT.

ACTION: Notice of intent of waiver with respect to land.

SUMMARY: The Federal Aviation Administration (FAA) is considering a proposal to change a portion of the airport from aeronautical use to non-aeronautical use and to authorize the release of 75.46 acres of airport property for non-aeronautical development. The land consists of portions of 11 original airport acquired parcels. These parcels were acquired under grants: 6-18-0038-10 and 6-18-0038-14 or without federal participation. The land is currently vacant. The future use of the property is for non-aviation development.

There are no impacts to the airport by allowing the Indianapolis Airport Authority to dispose of the property.

The land is not needed for aeronautical use. Approval does not constitute a commitment by the FAA to financially assist in the sale or lease of the subject airport property nor a determination of eligibility for grant-in-aid funding from the FAA.

In accordance with section 47107(h) of title 49, United States Code, this notice is required to be published in the Federal Register 30 days before modifying the land-use assurance that requires the property to be used for an aeronautical purpose.

DATES: Comments must be received on or before November 3, 2011.

ADDRESSES: Written comments on the Sponsor's request must be delivered or mailed to: Melanie Myers, Program Manager, Chicago Airports District Office, 2300 East Devon Avenue, Des Plaines, IL 60018.

FOR FURTHER INFORMATION CONTACT: Melanie Myers, Program Manager, Federal Aviation Administration, Great Lakes Region, Detroit Airports District Office, CHI-ADO 609, 2300 East Devon Avenue, Des Plaines, IL 60018 Telephone Number (847-294-7525)/FAX Number (847-294-7046). Documents reflecting this FAA action may be reviewed at this same location or at Indianapolis International Airport, Indianapolis, Indiana.

SUPPLEMENTARY INFORMATION:

Parcel 112

A part of the Northeast Quarter, the Northwest Quarter, the Southwest Quarter, and the Southeast Quarter of Section 33, Township 15 North, Range 2 East, Decatur Township, Marion County, Indiana, more particularly described as follows: Commencing at a brass disk (IAA monument 33-M) found at the Southeast corner of the Northwest Quarter of said Section 33; thence South 88 degrees 54 minutes 54 seconds West (all bearings are based on the Indiana State Plane Coordinate system, East Zone (NAD 83)) along the South line of said Northwest Quarter 164.56 feet; thence North 01 degrees 05 minutes 06 seconds West perpendicular to the last described line 316.96 feet to the POINT OF BEGINNING; thence South 87 degrees 58 minutes 46 seconds East 138.95 feet; thence South 62 degrees 24 minutes 14 seconds East 639.29 feet; thence South 48 degrees 54 minutes 55 seconds East 516.42 feet; thence South 60 degrees 57 minutes 17 seconds East 91.32 feet; thence South 53 degrees 40 minutes 33 seconds West 157.81 feet; thence South 45 degrees 00 minutes 17 seconds East 889.05 feet; thence South 45 degrees 07 minutes 10 seconds West 116.20 feet; thence South 44 degrees 52 minutes 50 seconds East 121.69 feet; thence North 45 degrees 07 minutes 10 seconds East 116.47 feet; thence South 45 degrees 00 minutes 17 seconds East 360.66 feet to the North right of way of I-70 per Indiana Department of Transportation plans for Project No. ST-70-3(Q) (the following two courses are along said North right of way); (1) thence South 68 degrees 47 minutes 46 seconds West 613.10 feet to a tangent curve to the left having a radius of 20,040.00 feet, the radius point of which bears South 21 degrees 12 minutes 14 seconds East; (2) thence Southwesterly along said curve 849.39 feet to a point which bears North 23 degrees 37 minutes 57 seconds West from said radius point; thence North 86 degrees 06 minutes 02 seconds West 439.92 feet to the Eastern right of way of the I-70 Off-ramp to the Midfield Terminal per Indiana Department of Transportation plans for said Project No. ST-70-3(Q) (the following twelve courses are along said Eastern right of way); (1) thence North 29 degrees 09 minutes 48 seconds West 219.65 feet; (2) thence North 24 degrees 52 minutes 02 seconds West 208.94 feet; (3) thence North 38 degrees 55 minutes 00 seconds West 235.07 feet; (4) thence North 33 degrees 00 minutes 23 seconds West 271.99 feet; (5) thence North 29 degrees 06 minutes 08 seconds West 244.10 feet; (6) thence North 20 degrees 02 minutes 46 seconds West 147.56 feet; (7) thence North 11 degrees 10 minutes 40 seconds West 127.36 feet; (8) thence North 06 degrees 26 minutes 54 seconds West 94.15 feet; (9) thence North 02 degrees 09 minutes 53 seconds East 115.55 feet; (10) thence North 18 degrees 28 minutes 47 seconds East 338.00 feet; (11) thence North 27 degrees 48 minutes 50 seconds East 129.82 feet to a non-tangent curve to the right having a radius of 1125.00 feet, the point of which bears South 58 degrees 52 minutes 42 seconds East; (12) thence Northeasterly along said curve 264.92 feet to a point which bears North 45 degrees 23 minutes 10 seconds West from said radius point; thence North 44 degrees 36 minutes 50 seconds East 198.54 feet to the POINT OF BEGINNING, containing 75.390 acres, more or less.

Issued in Des Plaines, Illinois, on September 22, 2011.

Jack Delaney,
Acting Manager, Chicago Airports District Office, FAA, Great Lakes Region.

[FR Doc. 2011-25566 Filed 10-3-11; 8:45 am]

BILLING CODE 4910-13-P